DEPARTMENT OF TRANSPORTATION

Federal Aviation Administration

Notice of Intent To Rule on a Land Release Request at Saratoga County Airport (5B2), Ballston Spa, NY

AGENCY: Federal Aviation Administration (FAA), DOT.

ACTION: Notice of request to release airport land.

SUMMARY: The FAA proposes to rule and invites public comment on the application for a release of approximately 1.79 acres of federally obligated airport property at Saratoga County Airport, Ballston Spa, Saratoga County, NY, from conditions, reservations, and restrictions contained in Airport Improvement Program (AIP) grants that would restrict the use of said land to aeronautical purposes. This acreage is composed of a portion of a parcel that was acquired by Saratoga County though AIP Grant 3-36-0004-05-1987. It is requested that FAA approval be given to release the 1.79 acres for disposal to allow a currently existing non-aeronautical use on the parcel to continue. The land is not needed for aeronautical purposes and the Federal share of the proceeds from the sale of land would be dedicated to a future AIP eligible airport effort.

DATES: Comments must be received on or before July 8, 2021.

ADDRESSES: Comments on this application may be submitted to Robert Costa, Federal Aviation Administration, New York Airports District Office via phone at (718) 995-5778 or at the email address Robert.Costa@faa.gov. Comments on this application may also be mailed or delivered to the FAA at the following address: Evelyn Martinez, Manager, Federal Aviation Administration, New York Airports District Office, Federal Register Comment, 1 Aviation Plaza, Jamaica, New York 11434.

FOR FURTHER INFORMATION CONTACT: Mr. Robert Costa, Assistant Manager, Federal Aviation Administration, New York Airports District Office, 1 Aviation Plaza, Jamaica, New York 11434. Telephone: 718-995-5778.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements. The following is a brief overview of the request.

The County of Saratoga has requested release from grant assurance obligations of approximately 1.79 acres of airport property at Saratoga County Airport to permit the disposal of the land at fair market value to allow an existing not-for-profit hospice facility to continue to operate on site. The airport has no plans to utilize the parcel for aviation use. The 1.79 acres sits on a larger 5.48-acre parcel currently owned by the airport. The 5.48-acre parcel will be split into two parcels; a 3.69-acre parcel that will be retained by the airport, as it includes a portion of the Runway 23 Runway Protection Zone, and the 1.79-acre parcel that is outside of the Runway Protection Zone and currently houses the not-for-profit hospice facility and associated parking area. As a condition of the release, the proposed use must not interfere with the airport or its operations. The Federal share of the proceeds of the disposal would be distributed towards approved AIP eligible efforts, with the remaining proceeds to be utilized to operate the airport. For these reasons, it is not anticipated that this acreage will be needed for aeronautical purposes in the future.

Issued in Jamaica, New York, on June 2, 2021.
Evelyn Martinez,
Manager, New York Airports District Office.

[FR Doc. 2021-11900 Filed 6-7-21; 8:45 am]

BILLING CODE 4910-13-P